DEPARTMENT OF HEALTH AND HUMAN SERVICES

Public Meeting of the President's Council on Bioethics on December 12-13, 2002

AGENCY: The President's Council on Bioethics, HHS.

ACTION: Notice.

SUMMARY: The President's Council on Bioethics will hold its eighth meeting, at which it will discuss, among other things, current and future prospects for genetic enhancements (presentation by Dr. Francis Collins of the National Human Genome Research Institute [NHGRI]). Other topics will include: Technologies to increase the human lifespan (presentations by Dr. Steven Austad, University of Idaho, and Dr. S. Jay Olshansky, University of Chicago), and the possibility of overmedicating children with stimulants such as Ritalin (presentation by Dr. Lawrence H. Diller, University of California-San Francisco). The Council may also touch on issues relating to organ donation and procurement. Subjects discussed by the Council at past meetings include: Human cloning; embryonic stem cells; the patentability of human organisms; enhancements of human mood, memory, and muscles; choosing the sex of children; and international models of biotech regulation.

DATES: The meeting will take place Thursday, December 12, 2002, from 9 am to 5:15 pm ET; and Friday, December 13, 2002, from 8:30 am to 1 pm ET.

ADDRESSES: Hotel Monaco, 700 F Street, NW., Washington, DC 20004.

Public Comments: The meeting agenda will be posted at http://www.bioethics.gov. Members of the public may submit written statements for the Council's records. Please submit statements to Ms. Diane Gianelli, Director of Communications (tel. 202/296-4669 or e-mail info@bioethics.gov). The public may also express comments during the time set aside for this purpose, beginning at noon ET, on Friday, December 13, 2002. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit http://www.bioethics.gov.

Dated: November 20, 2002.
Dean Clancy,
Executive Director, The President's Council on Bioethics.

[FR Doc. 02-30045 Filed 11-26-02; 8:45 am]

BILLING CODE 4151-05-P